DEPARTMENT OF HOMELAND SECURITY

Science and Technology Directorate; Notice of Intent To Prepare an Environmental Impact Statement

AGENCY: Science and Technology Directorate (Office of National Laboratories within the Office of Research), DHS.

ACTION: Notice of intent to prepare an Environmental Impact Statement for the National Bio and Agro-Defense Facility (NBAF).

SUMMARY: DHS announces its intent to prepare an Environmental Impact Statement (EIS) to evaluate reasonable siting alternatives for the construction and operation of the proposed NBAF. DHS invites individuals, organizations, and agencies to present oral or written comments concerning the scope of the EIS, including the environmental issues and alternatives that the EIS should address.

DATES: The public scoping period starts with the publication of this Notice in the Federal Register and will continue until September 27, 2007. DHS will consider all comments received, postmarked, or emailed by that date in defining the scope of the EIS. DHS also intends to hold public meetings during this comment period to provide the public with added opportunities to present comments, ask questions, and discuss concerns regarding the EIS with DHS officials.

All public meetings are listed in the SUPPLEMENTARY INFORMATION section.

DHS will publish additional notices regarding the dates, times, and locations of the public meetings in local newspapers in advance of the scheduled meetings. Any necessary changes will be announced in the local media and on the NBAF Web site (http://www.dhs.gov/nbaf).

ADDRESSES: Comments may be submitted by mail, online, fax, or voice mail:

U.S. Mail: Department of Homeland Security; Science and Technology Directorate; James V. Johnson; Mail Stop #2100; 245 Murray Lane SW., Building 410; Washington, DC 20528; Online: http://www.dhs.gov/nbaf (click on Public Involvement); Toll-free fax: 1-866-508-NBAF (6223); or Toll-free voice mail: 1-866-501-NBAF (6223).

Updates and other information will be posted to the NBAF EIS Web page at: http://www.dhs.gov/nbaf.

In addition to providing comments at the public meetings, all interested parties are invited to record their comments, ask questions concerning the EIS, or request to be placed on the EIS mailing or document distribution list by leaving a message on the EIS Hotline at (toll free) 1-866-501-NBAF (6223). The Hotline will have instructions on how to record comments and requests. Additional information on public participation opportunities is included in the SUPPLEMENTARY INFORMATION section.

All interested persons and organizations including minority, low income, disadvantaged, and Native American groups are urged to participate in this environmental impact review process. Assistance will be provided upon request to anyone with special needs to facilitate their participation in the process.

SUPPLEMENTARY INFORMATION: Consultations between DHS and the United States Department of Agriculture (USDA) on a coordinated biodefense strategy called for in Homeland Security Presidential Directives 9 and 10 have revealed a gap that must be filled by an integrated research, development, test and evaluation (RDT&E) infrastructure for combating bio and agro terrorism threats. DHS S&T is responsible for filling this gap in a safe, secure, and environmentally sound manner. The proposed NBAF is envisioned to provide the nation with the first integrated agricultural, zoonotic disease, and public health RDT&E facility with the capability to address threats from human pathogens, high consequence zoonotic disease agents, and foreign animal diseases.

DHS intends to select a single site for the construction of the NBAF. A competitive selection process to identify and evaluate potential candidate sites, other than Plum Island, for the NBAF was recently completed. This process was initiated by issuance of a notice of request for Expressions of Interest (EOI), on January 19, 2006 (71 Federal Register 3107-3109). DHS has determined that the following “Site Alternatives” are reasonable alternative sites for the construction of the NBAF:

Manhattan Campus Site Manhattan, Kansas: This alternative would locate the NBAF within what is identified as the Kansas City Health Corridor on the Kansas State University Campus.

South Milledge Avenue Site, Athens, Georgia: This alternative would locate the NBAF on the campus of the University of Georgia Whitehall Farm.

Texas Research Park Site, San Antonio, Texas: This alternative would locate the NBAF on the land of the Texas Research Park in San Antonio Texas.

Umstead Research Farm Site, Butner, North Carolina: This alternative would locate the NBAF on the Umstead Research Farm site in Butner, North Carolina.

Flora Industrial Park Site, Flora, Mississippi: This alternative would locate the NBAF in Flora Industrial Park in Flora, Mississippi.

Although not included in the competitive selection process outlined above, the DHS-owned Plum Island Animal Disease Center (PIADC) will also be considered as a reasonable alternative.

Plum Island Site, Plum Island Animal Disease Center, Plum Island, New York: This alternative would locate the new NBAF on the same federally owned property as the existing PIADC.

Additionally, a No Action alternative will also be evaluated. Under the No Action Alternative, the NBAF would not be built and DHS would continue to use PIADC with necessary investments in facility upgrades, replacements, and repairs so that it could continue to operate at its current capability.

Additional alternatives may be identified during the public scoping process. DHS invites comments and suggestions on alternatives that should be considered. A preferred location for the construction of the NBAF has not been identified at this time.

DATES: The Public Meeting dates are:

1. Wednesday, August 22, 2007, from 7 p.m. to 10 p.m. Old Saybrook, CT Saybrook Point Inn, Two Bridge Street, Old Saybrook, CT 06475.

2. Thursday, August 23, 2007, from 7 p.m. to 10 p.m. Greenport, NY, Southold Town Hall, 53095 Main Road (Route 25), Greenport, NY 11971.

3. Tuesday, August 28, 2007, from 7 p.m. to 10 p.m. Manhattan, KS, Kansas State University, K-State Student Union, Manhattan, KS 66505.

4. Thursday, August 30, 2007, from 7 p.m. to 10 p.m. Flora, MS, First Baptist Church, Christian Life Center, 121 Center Street, Flora, MS 39071.

5. Thursday, September 6, 2007, from 1:30 p.m. to 4:30 p.m. Washington, DC, Grand Hyatt Washington, 1000 H Street NW, Washington, DC 20001.

6. Tuesday, September 11, 2007, from 7 p.m. to 10 p.m. San Antonio, TX, Marriott Plaza San Antonio, 555 South Alamo Street, San Antonio, TX 78205.

7. Tuesday, September 18, 2007, from 7 p.m. to 10 p.m. Creedmoor, NC, South Granville High School, 701 North Crescent Drive, Creedmoor, NC 27522.

8. Thursday, September 20, 2007, from 7 p.m. to 10 p.m. Athens, GA, The University of Georgia, Center for Continuing Education, 1197 South Lumpkin Street, Athens, GA 30602.

Onsite registration and sign-up to present oral comments will be available at 6 p.m. for all meetings (12:30 p.m. for the Washington, DC meeting).

Preliminary Identification of Environmental Issues: The following issues have been tentatively identified for analysis in the EIS. DHS invites suggestions for the addition or deletion of items on this list:

• Land-use plans, policies, and controls;

• Visual resources;

• Air quality;

• Acoustic (noise) environment;

• Geology and soil characteristics;

• Water resources, including surface and groundwater, floodplains and wetlands, and water use and quality;

• Plants and animals, and their habitats, including Federally-listed threatened or endangered species and their critical habitats, wetlands and floodplains;

• Cultural resources, including historic and prehistoric resources and traditional cultural properties encompassing Native American or culturally important sites;

• Human health and safety (involving both members of the public and laboratory workers);

• Socioeconomic effects that may be related to the new construction and facility operations;

• Public infrastructure, including utilities and local transportation;

• Waste management practices and activities including the handling, collection, treatment, and disposal of research wastes; and

• Compliance with all applicable federal, tribal, state, and local statutes and regulations and with international agreements, and required environmental permits, consultations and notifications.

The list of issues discussed above for consideration in the NBAF EIS is preliminary and is intended to facilitate public comment. It is not intended to be all-inclusive, nor does it imply any predetermination or relative importance of potential impacts. During the process of preparing the EIS, DHS will evaluate the potential environmental and human health impacts of the alternatives, together with engineering and socioeconomic considerations. The NBAF EIS will present the results of this environmental impact evaluation process.

DHS anticipates that certain classified or otherwise protected information will be consulted in the preparation of this EIS and used by decision-makers to decide where and how to relocate the NBAF. To the extent allowable, the EIS will summarize and present this information in a publicly releasable form.

EIS Preparation and Public Participation Process: The process for preparing the NBAF EIS begins with the publication of this Notice of Intent in the Federal Register. After the close of the public scoping period, DHS will begin the environmental impact evaluation process. DHS expects to issue a draft NBAF EIS for public review in the spring of 2008. Public comments on the draft will be accepted during a comment period of at least 60 days following its publication. DHS will consider the public comments received on the draft EIS, perform further environmental impact evaluation if needed, and expects to publish a final NBAF EIS during fall 2008. No sooner than 30 days after publication of the Notice of Availability of the final NBAF EIS in the Federal Register, DHS will issue its Record of Decision and publish it in the Federal Register. In addition to the Federal Register, the Notices of Availability for the draft EIS, final EIS, and EIS Record of Decision will be provided through direct mail and other media.

Authority: 42 U.S.C. 4321-4347 (National Environmental Policy Act).

Dated: July 30, 2007.
Jay M. Cohen,
Under Secretary, Science & Technology.

[FR Doc. E7-14692 Filed 7-30-07; 8:45 am]

BILLING CODE 4410-10-P